DEPARTMENT OF TRANSPORTATION

Federal Motor Carrier Safety Administration

[Docket No. FMCSA-2008-0036]

Commercial Driver's License (CDL) Standards; Rotel North American Tours, LLC; Application for Exemption and Request for Comments

AGENCY: Federal Motor Carrier Safety Administration (FMCSA), DOT.

ACTION: Notice of application for exemption; request for comments.

SUMMARY: FMCSA announces that Rotel North American Tours, LLC (Rotel) has applied for exemption from the Agency's requirement that drivers of certain commercial motor vehicles (CMVs) possess a valid commercial driver's license (CDL). Rotel has requested this exemption for 22 German bus drivers who would transport German tourists in the United States by means of Rotel's specially equipped passenger-carrying CMVs. Rotel hires the bus drivers to conduct the tours in addition to operating the CMVs. Rotel previously was able to conduct these operations without exemption because its drivers had been able to obtain (and renew) non-resident CDLs from certain States. However, because of the recent emphasis upon security in the U.S., Rotel reports that no State currently issues non-resident CDLs. Rotel believes these drivers possess the knowledge and skills necessary to ensure a level of safety that is equivalent to, or greater than, the level of safety that would be obtained by complying with the U.S. requirement for a CDL. FMCSA requests public comment on the Rotel application for exemption.

DATES: Comments must be received on or before April 21, 2008.

ADDRESSES: You may submit comments identified by Federal Docket Management System Number FMCSA-2008-0036 by any of the following methods:

• Web site: http://www.regulations.gov. Follow the instructions for submitting comments on the Federal electronic docket site.

• Fax: 1-202-493-2251.

• Mail: Docket Management Facility, U.S. Department of Transportation, Room W12-140, 1200 New Jersey Avenue, SE., Washington, DC 20590-0001.

• Hand Delivery: Ground Floor, Room W12-140, DOT Building, 1200 New Jersey Avenue, SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov at any time or to the ground floor, room W12-140, DOT Building, New Jersey Avenue, SE., Washington, DC, between 9 a.m. and 5 p.m. e.t., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (65 FR 19476) or you may visit http://www.regulations.gov.

Public participation: The http://www.regulations.gov Web site is generally available 24 hours each day, 365 days each year. You can get electronic submission and retrieval help and guidelines under the “help” section of the http://www.regulations.gov Web site and also at the DOT's http://docketsinfo.dot.gov Web site. If you want us to notify you that we received your comments, please include a self-addressed, stamped envelope or postcard or print the acknowledgement page that appears after submitting comments online.

FOR FURTHER INFORMATION CONTACT: Mr. Robert F. Schultz, Jr., FMCSA Driver and Carrier Operations Division, Office of Bus and Truck Standards and Operations. Telephone: 202-366-4325. E-mail: MCPSD@dot.gov.

SUPPLEMENTARY INFORMATION:

Background

Section 4007 of the Transportation Equity Act for the 21st Century (Pub. L. 105-178, 112 Stat. 107, June 9, 1998) amended 49 U.S.C. 31315 and 31136(e) to provide authority to grant exemptions from motor carrier safety regulations. Under its regulations, FMCSA must publish a notice of each exemption request in the Federal Register (49 CFR 381.315(a)). The Agency must provide the public an opportunity to inspect the information relevant to the application, including the results of any safety analyses that have been conducted. The Agency must also provide an opportunity for public comment on the request.

The Agency reviews the safety analyses and the public comments and determines whether granting the exemption would likely achieve a level of safety equivalent to, or greater than, the level that would be achieved by the current regulation (49 CFR 381.305(a)). The decision of the Agency must be published in the Federal Register (49 CFR 381.315(b)) with the reason for denying or, in the alternative, the specific person or class of persons receiving the exemption, and the regulatory provision or provisions from which exemption is being granted. The notice must also specify the effective period of the exemption (up to 2 years), and explain the terms and conditions of the exemption. The exemption may be renewed (49 CFR 381.300(b)).

Request for Exemption

Rotel, headquartered in Terre Haute, Indiana, is engaged in conducting bus tours of the United States for Europeans. It currently has 22 bus drivers and 11 customized buses dedicated to these operations. The buses qualify as passenger commercial motor vehicles (CMVs) as defined in section 383.5 of the Federal Motor Carrier Safety Regulations (FMCSRs) (49 CFR 350 et. seq.); therefore, the operators of the buses must possess a valid commercial driver's license (CDL) (49 CFR 383.110) with passenger endorsement (49 CFR 383.93).

Rotel drivers operate the buses and deliver oral commentary during the trip. Rotel prefers to use native German drivers to conduct the tours. It tried to use non-native Germans who were fluent in German, but states that the quality of its service was affected adversely.

Rotel's drivers hold German CDLs, but these are not recognized in the U.S. Until recently, the German drivers could obtain (and renew) a non-resident CDL in one of several States of the U.S. However, because of the recent heightening of security in the U.S., no State currently issues or renews non-resident CDLs. Therefore, Rotel's drivers cannot obtain or renew non-resident CDLs.

Rotel requests FMCSA to allow its 22 bus drivers to operate these 11 buses without a CDL for a period of two years. It believes these drivers possess the knowledge and skills to ensure a level of safety that is equivalent to, or greater than, the level of safety that would be obtained by complying with the U.S. requirement for a CDL. A copy of Rotel's application for exemption is available for review in the docket for this notice.

Request for Comments

In accordance with 49 U.S.C. 31315(b)(4) and 31136(e), FMCSA requests public comment on Rotel's application for exemption from the FMCSRs. The Agency will consider all comments received by close of business on April 21, 2008. Comments will be available for examination in the docket at the location listed under the ADDRESSES section of this notice. The Agency will consider to the extent practicable comments received in the public docket after the closing date of the comment period.

Issued on: March 13, 2008.
Larry W. Minor,
Associate Administrator for Policy and Program Development.

[FR Doc. E8-5639 Filed 3-19-08; 8:45 am]

BILLING CODE 4910-EX-P